DEPARTMENT OF JUSTICE

Antitrust Division

Notice Pursuant to the National Cooperative Research and Production Act of 1993—Recreational Off-Highway Vehicle Association (Formerly Known as Recreational Off-Highway Vehicle Organization)

Notice is hereby given that, on May 4, 2010, pursuant to Section 6(a) of the National Cooperative Research and Production Act of 1993, 15 U.S.C. 4301 et seq. (“the Act”), the Recreational Off-Highway Vehicle Association (“ROHVA”) has filed written notifications simultaneously with the Attorney General and the Federal Trade Commission disclosing changes in its standards development activities. The notifications were filed for the purpose of extending the Act's provisions limiting the recovery of antitrust plaintiffs to actual damages under specified circumstances. Specifically, since the last notification was filed, ROHVA has initiated maintenance to and revision of a voluntary standard (ANSI/ROVA 1-2010) addressing the design, configuration, and performance aspects of Recreational Off-Highway Vehicles (ROVs).

Also, the name of the standards development organization has changed from the Recreational Off-Highway Vehicle Organization (“ROVO”) to the Recreational Off-Highway Vehicle Association (“ROHVA”).

In addition, ROHVA is including its members, Arctic Cat, Inc., Thief River Falls, HN; BRP, Inc., Valcourt, Quebec, CANADA; Polaris Industries Inc., Medina, MN; and Yamaha Motor Corporation, U.S.A., Cypress, CA, in this notice.

On June 23, 2008, ROHVA filed its original notification pursuant to Section 6(a) of the Act. The Department of Justice published a notice in the Federal Register pursuant to Section 6(b) of the Act on July 29, 2008 (73 FR 43952).

Patricia A. Brink,
Deputy Director of Operations, Antitrust Division.

[FR Doc. 2010-12815 Filed 5-28-10; 8:45 am]

BILLING CODE 4410-41-M